Title 3—

The President

Proclamation 9579 of March 21, 2017

National Agriculture Day, 2017

By the President of the United States of America

A Proclamation

America's farmers and ranchers help feed the world, fuel our Nation's economy, and lead global markets in output and productivity. The efficiency of American agriculture has provided this country with abundance our ancestors could not have imagined.

The agriculture sector of the United States is endlessly innovative. It continuously builds on its centuries of progress through advances in science, research, technology, safety, production, and marketing to meet the demands of changing consumer needs and complex world markets. The agriculture sector provides jobs across our Nation, not just for farmers and ranchers, but for foresters, scientists, processors, shippers, firefighters, police, and retailers.

American agriculture is the largest positive contributor to our Nation's net trade balance, generating 10 percent of our exports and millions of American jobs. America's farmers and ranchers provide a safe and plentiful domestic food supply, which is vital to our national security. Moreover, they safeguard our sustainable resource base for future generations. As my Administration fights for better trade deals, agriculture will be an important consideration so that its significant contributions will only increase in the years ahead.

American farmers and ranchers are the heart and soul of America and they represent the determined, self-reliant character of our Nation. We are proud of American agriculture and we recognize agriculture's critical role to our Nation's bright future.

NOW, THEREFORE, I, DONALD J. TRUMP, President of the United States of America, by virtue of the authority vested in me by the Constitution and the laws of the United States, do hereby proclaim March 21, 2017, as National Agriculture Day. I encourage all Americans to observe this day by recognizing the preeminent role that agriculture plays in Americans' daily life, acknowledging agriculture's continuing importance to our country's economy, and expressing our deep appreciation of farmers and ranchers across the Nation.

IN WITNESS WHEREOF, I have hereunto set my hand this twenty-first day of March, in the year of our Lord two thousand seventeen, and of the Independence of the United States of America the two hundred and forty-first.

[FR Doc. 2017-06080

Filed 3-23-17; 11:15 am]

Billing code 3295-F7-P